DEPARTMENT OF STATE

Bureau of Oceans, Environment and Science

[Public Notice No. 3451]

Public Meeting on An International Agreement on Prior Informed Consent for Certain Hazardous Chemicals and Pesticides

SUMMARY: This public meeting will provide an overview of ongoing efforts to implement a binding agreement on the application of a prior informed consent (PIC) procedure for certain hazardous chemicals and pesticides. A total of 73 countries have signed the binding PIC agreement, with 11 countries completing ratification. The purpose of the public meeting is to discuss preparations for the seventh session of the PIC intergovernmental negotiating committee (INC-7) which will take place from October 30 to November 3, 2000. The INC-7 meeting will address a number of timely issues related to the PIC agreement: status and implementation issues related to the interim PIC procedure, applicability to pesticides containing contaminants, activities of the interim chemical review committee, and preparation for the first conference of the parties. The public meeting will take place from 10:00 am to 12:00 pm on October 25 in Room 3519, U.S. Department of State, 2201 C Street Northwest, Washington, D.C. Attendees should use the entrance at C Street, and should provide Eunice Mourning (202-647-9266) with their date of birth and social security number by noon on October 24. Attendees should bring picture identification to the meeting.

FOR FURTHER INFORMATION CONTACT: Please contact Dr. Marie Ricciardone, U.S. Department of State, OES/ENV, Room 4325, 2201 C Street NW, Washington D.C. 20520. Phone 202-736-4660, fax 202-647-5947.

SUPPLEMENTARY INFORMATION: The United States, through an interagency working group chaired by the State Department, has been involved in preparations for implementation of the Rotterdam Convention on the Prior Informed Consent (PIC) Procedure for Certain Hazardous Chemicals and Pesticides in International Trade. The text of the PIC Convention was adopted by the Conference of Plenipotentiaries in September 1998. The Convention will make binding the current interim voluntary scheme contained in the United Nations Food and Agriculture Organization (FAO) International Code of Conduct on the Distribution and Use of Pesticides and the United Nations Environment Program (UNEP) London Guidelines for the Exchange of Information on Chemicals in International Trade. The PIC procedure was developed in recognition of the fact that many countries in the developing world have inadequate capacity to generate information necessary to make decisions regarding how to effectively manage risks of hazardous chemicals, and in certain cases to ensure adequate compliance with risk management decisions. The procedure assists countries in learning more about the characteristics of certain hazardous chemicals that may be shipped to them, initiates a decision-making process on the future import of these chemicals, and facilitates the dissemination of this decision to other countries.

Chemicals eligible for the PIC procedure include those which have been banned or severely restricted by participating countries, as well as certain acutely hazardous pesticides. Under the procedure, countries notify the PIC secretariat of their decision on importation for each of the PIC chemicals. In their decision, countries indicate whether they will permit use and importation, prohibit use and importation, or permit importation only under specified conditions. Importing countries are expected to ensure that their decisions are applied to all sources of import and to domestic production for domestic use; exporting countries are expected to ensure that exports do not occur contrary to the decisions of importing countries. So far, 27 chemicals have been included in the procedure, and it is likely that more will be covered in the future. Additional information on the voluntary procedure, PIC text, PIC chemicals, and the agenda for INC-7 is located on the internet on the PIC Home Page (http://www.pic.int).

The Department of State is issuing this notice to help ensure that potentially affected parties are aware of and knowledgeable about the parameters of these negotiations. In the future, we will be contacting interested organizations about planned briefings by mail or fax. Those organizations which cannot attend the meeting, but wish to remain informed, should provide Dr. Marie Ricciardone of the Department of State with their address, telephone and fax numbers.

Dated: October 17, 2000.
Dan Fantozzi,
Director, Office of Environmental Policy.

[FR Doc. 00-27072 Filed 10-19-00; 8:45 am]

BILLING CODE 4710-09-U